DEPARTMENT OF HEALTH AND HUMAN SERVICES

Centers for Disease Control and Prevention

[30Day-23-1175]

Agency Forms Undergoing Paperwork Reduction Act Review

In accordance with the Paperwork Reduction Act of 1995, the Centers for Disease Control and Prevention (CDC) has submitted the information collection request titled “Environmental Public Health Tracking Network (Tracking Network)” to the Office of Management and Budget (OMB) for review and approval. CDC previously published a “Proposed Data Collection Submitted for Public Comment and Recommendations” notice on December 20, 2022 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Environmental Public Health Tracking Network (Tracking Network) (OMB Control No. 0920-1175, Exp. 7/31/2023)—Revision—National Center for Environmental Health (NCEH), Centers for Disease Control and Prevention (CDC).

Background and Brief Description

The CDC is submitting a three-year Paperwork Reduction Act (PRA) Revision Information Collection Request (ICR) for “Environmental Public Health Tracking Network (Tracking Network)” (OMB Control No. 0920-1175, Expiration Date 7/31/2023). This ICR is sponsored by the Environmental Public Health Tracking Section (Tracking Section), Division of Environmental Health Science and Practice (DEHSP), National Center for Environmental Health (NCEH) at CDC.

In September 2000, the Pew Environmental Health Commission issued a report entitled America's Environmental Health Gap: Why the Country Needs a Nationwide Health Tracking Network. The Commission documented a critical gap in “knowledge that hinders our national efforts to reduce or eliminate diseases that might be prevented by better managing environmental factors” due largely to the fact that existing environmental health systems were inadequate and fragmented. They described a lack of data for the leading causes of mortality and morbidity, a lack of data on exposure to hazards, a lack of environmental data with applicability to public health, and barriers to integrating and linking existing data. To address this critical gap, the Commission recommended a “Nationwide Health Tracking Network” for disease and exposures. In response to the report and this critical gap, Congress appropriated funds in the fiscal year 2002 budget for the CDC to establish the National Environmental Public Health Tracking Program (Tracking Program) and Network and has appropriated funds each year thereafter to continue this effort.

The Tracking Program includes State and Local Health Departments (SLHD) which collaborate to: (1) build and maintain the Tracking Network; (2) advance the practice and science of environmental public health tracking; (3) communicate information to guide environmental health policies and actions; (4) enhance tracking workforce and infrastructure; and (5) foster collaborations between health and environmental programs.

In spring of 2022, under Notice of Funding Opportunity CDC-RFA-EH22-2202, the CDC's Tracking Program funded 33 state and local public health programs (funded SLHD). These recipients were selected through a competitive objective review process and are managed as CDC cooperative agreements. Awards are for five years and are renewed through an Annual Performance Report (APR)/Continuation Application. The Tracking Program collects data from recipients about their activities and progress for the purposes of program evaluation and monitoring (hereafter referenced as program data).

Environmental public health tracking is the ongoing collection, integration, analysis, and dissemination of health, exposure, and hazard data (hereinafter referenced as Tracking Network data) to inform public health actions that protect the population from harm resulting from exposure to environmental contaminants. The Tracking Network provides data from existing health, exposure, and hazard surveillance systems and supports ongoing efforts within the public health and environmental sectors to improve data collection, accessibility, and dissemination as well as analytic and response capacity. Data that were previously collected for different purposes and stored in separate state and local systems are now available in a nationally standardized format allowing programs to begin bridging the gap between health and the environment.

CDC is requesting approval for an increase of seven additional annual respondents from the 30 approved under the previous ICR and five-year NOFO (No. CDC-RFA-EH17-1702). In spring of 2022, under the new five-year NOFO (No. CDC-RFA-EH22-2202), the CDC's Tracking Program funded 33 state and local public health programs (funded SLHD). CDC is now requesting approval for up to 37 annual respondents. This number reflects the current 33 SLHD respondents plus four to allow for future funding of new SLHD or to collect voluntary responses from unfunded SLHD.

Data from recipients or other SLHD are submitted annually following standardized procedures. Tracking network data submitted annually by recipients and other SLHD to the Tracking Program include seven datasets and the metadata form, specifically (1) birth defects prevalence, (2) childhood blood lead levels, (3) drinking water monitoring, (4) emergency department visits, (5) hospitalizations, (6) radon testing, (7) biomonitoring, and (8) metadata. The Tracking Program will begin using Research Electronic Data Capture (REDCap) for its Electronic Data Capture System (EDCS) needs, which is an easy-to-use, free software tool that is useful for programmatic deliverable management and data capture. Using an EDCS significantly reduces the burden by optimizing the data capture method to eliminate the need for personnel to complete manual data cleaning and organization before using data for analysis and evaluation upon submission.

Based on the above changes, CDC requests OMB approval for an estimated 14,384 annualized burden hours. There is no cost to respondents other than their time to participate.

Estimated Annualized Burden Hours
Type of respondent | Form name | Number of respondents | Number of responses per respondent | Average burden per response (in hrs.)
State and Local Health Department | Birth defects prevalence | 30 | 1 | 40
| Childhood blood lead levels | 37 | 1 | 40
| Drinking water monitoring | 37 | 1 | 50
| Emergency department visits | 37 | 1 | 40
| Hospitalizations | 37 | 1 | 40
| Radon testing | 25 | 1 | 50
| Biomonitoring | 25 | 1 | 40
| Metadata records | 37 | 2 | 20
| Work Plan Template | 37 | 1 | 21
| Program Accomplishments and Public Health Actions Report | 37 | 2 | 20
| Performance Measures Report | 37 | 1 | 20
| PHA Impact Follow Up Form | 37 | 2 | 0.25
| Communications plan | 37 | 1 | 2
| Web Stats Template | 37 | 2 | 1

Jeffrey M. Zirger,
Lead, Information Collection Review Office, Office of Public Health Ethics and Regulations, Office of Science, Centers for Disease Control and Prevention.

[FR Doc. 2023-13569 Filed 6-26-23; 8:45 am]

BILLING CODE 4163-18-P